DEPARTMENT OF THE TREASURY

Office of the Secretary

31 CFR Part 1

RIN 1505-AC33

Privacy Act of 1974; Implementation

Correction

In rule document 2011-29385 appearing on pages 70640-70644 the issue of Tuesday, November 15, 2011 make the following correction:

§ 1.36 [Corrected]

On page 70644, in § 1.36, in paragraph (g)(1)(viii), in the untitled table, the third row of the table should read:

“IRS 90.002 . . . . . Chief Counsel Litigation and Advice (Civil) Records”

[FR Doc. C1-2011-29385 Filed 2-17-12; 8:45 am]

BILLING CODE 1505-01-D